DEPARTMENT OF AGRICULTURE

Forest Service

Final Record of Decision for the Santa Fe Forest

AGENCY: Forest Service, Agriculture (USDA).

ACTION: Notice of approval of the Revised Land Management Plan for the Santa Fe National Forest.

SUMMARY: James Duran, the Acting Forest Supervisor for the Santa Fe National Forest, Southwestern Region, signed the final record of decision (ROD) for the Santa Fe National Forest Land Management Plan (LMP). The final ROD documents the rationale for approving the LMP and is consistent with the Reviewing Officer's responses to objections and instructions.

DATES: The revised LMP for the Santa Fe National Forest will become effective [30 days after the publication of this notice of approval in the Federal Register (36 CFR 219.17(a)(1)).

ADDRESSES: To view the final ROD, final environmental impact statement (FEIS), the revised LMP, and other related documents, please visit the Santa Fe National Forest website at: www.fs.usda.gov/goto/santafeforestplan.

A legal notice of approval is also being published in the newspaper of record, The Albuquerque Journal. A copy of this legal notice will be posted on the Santa Fe National Forest's website described above.

FOR FURTHER INFORMATION CONTACT: Sarah Browne, Acting Forest Planner, Santa Fe National Forest, by telephone 505-438-5442, or via email at santafeforestplan@usda.gov.

Individuals who use telecommunication devices for the deaf or hard of hearing (TDD) may call the Federal Relay Service (FRS) at 1-800-877-8339, 24 hours a day, every day of the year, including holidays. Written requests for information may be sent to Santa Fe National Forest, Attn: Santa Fe National Forest Plan Revision, 11 Forest Lane, Santa Fe, NM 87508.

SUPPLEMENTARY INFORMATION: The Santa Fe National Forest covers five ranger districts and more than 1.6 million acres across six counties in northern New Mexico. The LMP was developed pursuant to the 2012 Forest Service Planning Rule (36 CFR 219) and will replace the 1987 LMP. The LMP describes desired conditions, objectives, standards, guidelines, and land suitability for project and activity decision-making and will guide all resource management activities on the Forest. The Santa Fe National Forest plays an important role supporting and partnering with communities in northern New Mexico and throughout the southwestern United States by providing economic benefits including fuelwood gathering, livestock grazing, and abundant recreational opportunities. The development of the LMP was shaped by the best available scientific information, current laws, and public input.

The Santa Fe National Forest initiated plan revision in 2014 and engaged the public frequently throughout the process. This engagement effort has included conventional public meetings, collaborative work sessions and technical meetings, information sharing via social media, and working with cooperating agencies. The Forest invited State, local, Tribal governments, and other Federal agencies from around the region to participate in the process to revise the LMP. The Forest engaged in government-to-government consultation with 24 tribes during LMP revision, ensuring tribal-related plan direction accurately reflects the Santa Fe National Forest's trust responsibilities and government-to-government relationship with tribes. An interagency working group met regularly throughout the plan revision effort. During the 90-day comment period in 2019 for the draft LMP and draft EIS, the Santa Fe National Forest received over 13,600 comments which helped refine the preferred alternative and augment plan content based on response to comments.

A draft ROD, LMP, and FEIS were released in September 2021, initiating a 60-day objection filing period that closed November 2, 2021. The Santa Fe received 15 eligible objections. Through a comprehensive review of each objection, a variety of issues were identified. Following the objection review, the Reviewing Officer held objection resolution meetings with objectors and interested persons. Based on these meetings, the Reviewing Officer issued a written response on May 24, 2022. The instructions from the Reviewing Officer were addressed in the ROD, LMP, and FEIS.

Responsible Official: The Responsible Official for approving the LMP is James Duran, Acting Forest Supervisor, Santa Fe National Forest. The Responsible Official approving the list of species of conservation concern is Michiko Martin, Regional Forester, Southwestern Region.

Dated: July 26 2022.
Deborah Hollen,
Acting Associate Deputy Chief, National Forest System.

[FR Doc. 2022-16318 Filed 7-28-22; 8:45 am]

BILLING CODE 3411-15-P